DEPARTMENT OF COMMERCE

National Oceanic and Atmospheric Administration

50 CFR Part 622

[Docket No. 130403320-4218-01]

RIN 0648-BD07

Fisheries of the Caribbean, Gulf of Mexico, and South Atlantic; Snapper-Grouper Fishery Off the Southern Atlantic States; Regulatory Amendment 14

AGENCY: National Marine Fisheries Service (NMFS), National Oceanic and Atmospheric Administration (NOAA), Commerce.

ACTION: Proposed rule; request for comments.

SUMMARY: NMFS proposes regulations to implement Regulatory Amendment 14 to the Fishery Management Plan for the Snapper-Grouper Fishery of the South Atlantic Region (FMP) (Regulatory Amendment 14), as prepared and submitted by the South Atlantic Fishery Management Council (Council). If implemented, this rule would revise the fishing years for greater amberjack and black sea bass, revise the commercial trip limits for gag grouper (gag) and black sea bass, and revise the recreational accountability measures (AMs) for black sea bass and vermilion snapper. The purpose of this rule is to help achieve optimum yield (OY) and enhance socio-economic opportunities within the snapper-grouper fishery in accordance with the requirements of the Magnuson-Stevens Fishery Conservation and Management Act (Magnuson-Stevens Act).

DATES: Written comments must be received on or before May 27, 2014.

ADDRESSES: You may submit comments on the proposed rule, identified by “NOAA-NMFS-2013-0052” by any of the following methods:

• Electronic Submission: Submit all electronic public comments via the Federal e-Rulemaking Portal. Go to www.regulations.gov/#!docketDetail;D=NOAA-NMFS-2013-0052, click the “Comment Now!” icon, complete the required fields, and enter or attach your comments.

• Mail: Submit written comments to Nikhil Mehta, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of the regulatory amendment, which includes an environmental assessment and an initial regulatory flexibility analysis (IRFA), may be obtained from the Southeast Regional Office Web site at http://sero.nmfs.noaa.gov/sustainable_fisheries/s_atl/sg/2014/reg_am14/index.html.

FOR FURTHER INFORMATION CONTACT: Nikhil Mehta, telephone: 727-824-5305, or email: nikhil.mehta@noaa.gov.

SUPPLEMENTARY INFORMATION: The snapper-grouper fishery of the South Atlantic is managed under the FMP. The FMP was prepared by the Council and is implemented through regulations at 50 CFR part 622 under the authority of the Magnuson-Stevens Act.

Background

The Magnuson-Stevens Act requires NMFS and regional fishery management councils to achieve on a continuing basis the OY from federally-managed fish stocks. These mandates are intended to ensure that fishery resources are managed for the greatest overall benefit to the nation, particularly with respect to providing food production and recreational opportunities, and protecting marine ecosystems.

Management Measures Contained in This Proposed Rule

This proposed rule would revise the fishing years for greater amberjack and black sea bass, revise the commercial trip limits for gag and black sea bass, and revise the recreational AMs for black sea bass and vermilion snapper.

Greater Amberjack Fishing Year

This proposed rule would revise the greater amberjack fishing year of May 1 through April 30 to a fishing year of March 1 through the end of February. This fishing year change would allow the commercial sector access to greater amberjack during the Lenten season, when there is an increase in demand for the species, and thus enhance the economic yield from greater amberjack harvest.

Black Sea Bass Fishing Year

This proposed rule would revise the commercial and recreational fishing years for black sea bass from the current fishing years for both sectors of June 1 through May 31, to January 1 through December 31 for the commercial sector and April 1 through March 31 for the recreational sector. With the current commercial fishing year start date of June 1, the commercial season for black sea bass in 2010-2012 has closed by October as a result of the commercial quota being met. Therefore, commercial harvest of black sea bass with pots and hook-and-line gear has not extended into the winter months when conditions are more favorable for catching black sea bass, and the economic value of the species is greater. Furthermore, for the last several years commercial harvest of black sea bass has been closed when the commercial harvest of vermilion snapper opens on January 1. Vermilion snapper are often caught with black sea bass when commercial fishers use hook-and-line gear.

The commercial black sea bass pot component of the snapper-grouper fishery is closed from November 1 through April 30; however, the commercial hook-and-line sector can fish for black sea bass during that time period. Starting the commercial fishing year on January 1 during the black sea bass pot gear closure could provide, to the extent practicable, positive socio-economic benefits to the commercial black sea bass fishers who use hook-and-line gear because they would be able to fish for black sea bass when the catch per unit effort is higher, the fish are closer to shore, and there is generally a higher price per pound for black sea bass. The action would also align the beginning of the commercial harvest seasons for black sea bass and vermilion snapper, which are commonly caught together with hook-and-line gear, and would be expected to decrease the amount of regulatory discards in the snapper-grouper fishery. However, some bycatch could still occur if there was an in-season closure for either black sea bass or vermilion snapper. In addition, a change in the commercial fishing year to January 1 for the black sea bass commercial sector would allow commercial fishers to harvest black sea bass with hook-and-line gear during January to April when many other snapper-grouper species such as shallow-water groupers are closed to harvest.

Black sea bass and vermilion snapper are often caught together by recreational fishermen using hook-and-line gear. The recreational black sea bass sector was closed in the fall of 2011 and 2012 because the recreational ACL was met. Furthermore, a November through March seasonal closure was in place for the vermilion snapper recreational sector. In 2013, Regulatory Amendment 18 to the FMP lifted the November-March seasonal closure for recreational harvest of vermilion snapper (78 FR 47574, August 6, 2013). Thus, with a June 1 start date for the black sea bass recreational fishing year, it is possible that the recreational black sea bass sector would be closed when recreational fishermen are targeting vermilion snapper, resulting in incidental catch of black sea bass. Beginning in April, weather conditions are often favorable throughout the Council's jurisdiction for recreational fishermen to target black sea bass. Therefore, a change in the black sea bass recreational fishing year start date from June 1 to April 1 would be expected to allow recreational fishermen throughout the Council's area of jurisdiction to have more opportunity to harvest black sea bass and vermilion snapper when harvest for both species is open, thus reducing regulatory discards of black sea bass during April and May. Revising the commercial and recreational fishing years for black sea bass could reduce bycatch, extend fishing opportunities for both the commercial and recreational sectors, and provide positive socio-economic benefits, to the extent practicable, to the snapper-grouper fishery and fishing community.

Black Sea Bass Commercial Trip Limit

Currently, the trip limit for the black sea bass commercial sector for hook-and-line gear and black sea bass pots is 1,000 lb (454 kg). This proposed rule would establish a trip limit of 300 lb (136 kg), gutted weight, for the hook-and-line component of the commercial sector from January 1 through April 30 when fishing with black sea bass pots is prohibited. The hook-and-line trip limit for the remainder of the fishing year would remain at 1,000 lb (454 kg), gutted weight, and from May 1 through October 31 the trip limit for fishers using black sea bass pots would continue to be 1,000 lb (454 kg), gutted weight. Black sea bass pots are prohibited from November 1 through April 30. Black sea bass and vermilion snapper are caught together with commercial hook-and-line gear, but are not generally caught together in black sea bass pots; bycatch is considered to be very low for this gear type. The fishing year for vermilion snapper begins on January 1, which would coincide with the proposed start date of the commercial fishing year for black sea bass. A 300 lb (136 kg), gutted weight, black sea bass trip limit for the hook-and-line sector during the period from January 1 to April 30 would allow fishermen to retain marketable quantities of black sea bass when targeting vermilion snapper; thereby, addressing bycatch and discard mortality issues. The 300-lb (136-kg) trip limit would also help to extend the length of the commercial vermilion snapper fishing season, since fishers would then have the opportunity to catch both black sea bass and vermilion snapper instead of just targeting vermilion snapper. The Council decided that a January 1 fishing year start date for the black sea bass commercial sector, in conjunction with a trip limit of 300 lb (136 kg), gutted weight, for the hook-and-line component would allow commercial harvest of black sea bass and vermilion snapper to occur at the same time and enhance the socio-economic benefits to those utilizing the black sea bass resource.

Gag Commercial Trip Limit

This proposed rule would revise the gag commercial trip limit from the current 1,000 lb (454 kg), gutted weight, to include a trip limit reduction from 1,000 lb (454 kg), gutted weight, to 500 lb (227 kg) gutted weight, when 75 percent of the gag commercial quota is reached. The Council determined that this trip limit alternative best addresses the need to minimize regulatory discards of gag and reduce adverse socio-economic impacts to fishermen and fishing communities that utilize the gag resource, while still allowing commercial harvest to continue. Without the trip limit reduction to 500 lb (227 kg) when 75 percent of the quota is reached, the gag commercial season would end earlier during the fishing year and thereby reduce the opportunity for a longer period of commercial harvest. Additionally, keeping the season open longer should help reduce the amount of regulatory discards of gag.

Black Sea Bass Recreational AMs

The black sea bass recreational AMs were established in the final rule for Amendment 17B to the FMP (75 FR 82280, December 30, 2010). Amendment 18A to the FMP subsequently revised the recreational AMs to close the recreational sector when the recreational annual catch limit (ACL) is projected to be met, regardless of the overfished status of black sea bass (77 FR 32408, June 1, 2012). Amendment 18A also established an annual catch target (ACT) for the black sea bass recreational sector. The ACT functions as a management reference point that is used to measure the efficiency of existing and new management measures for black sea bass.

The black sea bass stock in the South Atlantic was assessed through the Southeast Data, Assessment, and Review (SEDAR) stock assessment process in 2003 (SEDAR 2). SEDAR 2 determined that the South Atlantic black sea bass stock was overfished and undergoing overfishing. Measures to end overfishing were implemented and the Council developed a rebuilding plan for black sea bass with a 10-year rebuilding period that started in 2006. The black sea bass stock was reassessed in 2011 (SEDAR 25) and was determined to be no longer overfished or undergoing overfishing, but was not fully rebuilt. In 2013, the SEDAR 25 Update assessment indicated that the black sea bass stock was no longer undergoing overfishing and was fully rebuilt, and that harvest levels could be increased without jeopardizing the health of the population. In response to the SEDAR 25 Update assessment, Regulatory Amendment 19 to the FMP (78 FR 58249, September 23, 2013) more than doubled the recreational ACL and increased the ACT, and to date, the recreational sector has not harvested the ACL for the current fishing year. Additionally, the Council included a buffer between the acceptable biological catch and the ACL in Regulatory Amendment 19 as a conservative management approach to account for any management uncertainty.

As described in Regulatory Amendment 14, this proposed rule would revise the black sea bass recreational AMs while still managing the recreational sector to prevent the recreational ACL from being exceeded. The recreational AM would be to specify the length of the recreational fishing season for black sea bass, as determined by NMFS and announced annually in the Federal Register, prior to the proposed April 1 recreational fishing season start date. The fishing season would start on April 1 and end on the date NMFS would project the recreational sector's ACL would be met for that year. The purpose of this revised AM is to bring more predictability to the recreational season length, as requested by black sea bass recreational fishers. Prior to setting the length of the fishing season, NMFS would take into account the amount of black sea bass harvested in the previous fishing year and any biological consequences to the stock resulting from an overage. Thus, the following year's fishing season could be shorter if an ACL overage occurred in the previous year. The defined season length would benefit recreational fishers by allowing them to better plan their activities with respect to fishing for black sea bass while still being sufficient to manage the stock and protect it from adverse biological consequences.

As described in the Magnuson-Stevens Act National Standard 1 Guidelines, AMs are management controls that prevent ACLs from being exceeded, correct or mitigate any ACL overages if they occur, and may include the closure of a fishery or a reduction of effort. In this case, with the recently increased ACLs, the revised AM of a defined season length would serve to constrain harvest at or below the ACL during a fishing year. The projections used to determine each year's season length would take into account any potential ACL overages from the prior fishing year and adjust the length of the season, consistent with National Standard 1.

In this proposed rule, NMFS specifically solicits public comment on this action to revise the black sea bass recreational AM.

Vermilion Snapper Recreational AMs

The vermilion snapper recreational AMs were established in Amendment 17B to the FMP (75 FR 82280, December 30, 2010). The current recreational AMs reduce the ACL in the year following a recreational ACL overage by the amount of the overage. However, if vermilion snapper are overfished and the recreational ACL is exceeded, the sector is closed and recreational harvest is prohibited. Since vermilion snapper are not classified as being overfished, there is no mechanism to reduce harvest when the vermilion snapper recreational ACL is met. Additionally, the November through March recreational seasonal closure for vermilion snapper was recently eliminated (78 FR 47574, August 6, 2013).

This proposed rule would revise the recreational AM for vermilion snapper by implementing an in-season closure and modifying the ACL overage adjustment (payback) in the event an overage of the recreational ACL occurs and vermilion snapper are overfished. If recreational landings reach or are projected to reach the recreational ACL, recreational harvest would be prohibited for the remainder of the fishing year. Payback of a recreational ACL overage in the following fishing year would occur if vermilion snapper are determined to be overfished and the total ACL (combined commercial and recreational ACLs) are exceeded. Unlike black sea bass, the Council determined these revised recreational AMs that include in-season closure authority would best meet the objectives of the FMP while ensuring that overfishing of vermilion snapper does not occur.

Other Action Contained in Regulatory Amendment 14

Regulatory Amendment 14 also contains an action to modify the vermilion snapper commercial fishing season. The commercial fishing season for vermilion snapper is currently split into two seasons, January 1 through June 30, and July 1 through December 31. The Council considered alternatives to modify the start of the second season to coincide with openings of other snapper-grouper species to extend fishing opportunities for vermilion snapper. However, at its September 2013 meeting the Council decided not to revise the vermilion snapper season through Regulatory Amendment 14 because there was little public support for restructuring the commercial seasons for vermilion snapper. The Council decided that the current vermilion snapper fishing season best addresses the need to coincide with the beginning of the harvest seasons for co-occurring snapper-grouper species to minimize regulatory discards, promote an equitable distribution of snapper-grouper resources to fishers throughout the Council's area of jurisdiction, and enhance socio-economic benefits to fishers and fishing communities that utilize the vermilion snapper resource.

Additional Measure in This Proposed Rule That Is Not Included in Regulatory Amendment 14

Regulatory Amendment 15 to the FMP revised the AMs for gag by removing the requirement that all other South Atlantic shallow-water grouper (SASWG) are prohibited from harvest when the gag commercial ACL is met or projected to be met (78 FR 49183, August 13, 2013). However, the final rule implementing Regulatory Amendment 15 inadvertently failed to remove regulatory language within the quota closure section for gag that also referred to the associated SASWG closure. Therefore, this proposed rule would remove the outdated language that is no longer applicable to the gag commercial ACL closure.

Classification

Pursuant to section 304(b)(1)(A) of the Magnuson-Stevens Act, the Assistant Administrator has determined that this proposed rule is consistent with Regulatory Amendment 14, the FMP, Magnuson-Stevens Act and other applicable law, subject to further consideration after public comment.

This proposed rule has been determined to be not significant for purposes of Executive Order 12866.

NMFS prepared an IRFA for this rule, as required by section 603 of the Regulatory Flexibility Act, 5 U.S.C. 603. The IRFA describes the economic impact that this proposed rule, if adopted, would have on small entities. A description of the action, why it is being considered, and the objectives of and legal basis for this action are contained at the beginning of this section in the preamble and in the SUMMARY section of the preamble. A copy of the full analysis is available from the NMFS (see ADDRESSES). A summary of the IRFA follows.

This proposed rule would modify the commercial and recreational fishing years for greater amberjack from May 1 through April 30 to March 1 through the last day of February; modify the recreational fishing year for black sea bass from June 1 through May 31 to April 1 through March 31; require as an AM for NMFS to annually announce the recreational fishing season end date for black sea bass based on NMFS projections of when the recreational ACL will be caught; change the start date of the commercial fishing year for black sea bass from June 1 to January 1, and from January through March, when sea bass pots are not allowed to be used, the hook-and-line trip limit would be revised to 300 lb (136 kg), gutted weight; reduce the commercial trip limit for gag from 1,000 lb (454 kg), gutted weight, to 500 lb (227 kg), gutted weight, when 75 percent of the commercial ACL is projected to be met; modify the AMs for recreationally caught vermilion snapper such that exceeding the recreational ACL will result in an in-season closure; require paybacks for the vermilion snapper recreational sector only if the vermilion snapper stock is overfished and if the total ACL (vermilion snapper commercial and recreational ACLs combined) are exceeded.

The Magnuson-Stevens Act provides the statutory basis for this rule. No duplicative, overlapping, or conflicting Federal rules have been identified. In addition, no new reporting, record-keeping, or other compliance requirements are introduced by this proposed rule. Accordingly, this rule does not implicate the Paperwork Reduction Act.

NMFS expects the proposed rule to directly affect commercial fishermen and for-hire vessel operators in the South Atlantic snapper-grouper fishery. The Small Business Administration recently modified the small entity size criteria for all major industry sectors in the U.S., including fish harvesters. A business involved in finfish harvesting is classified as a small business if it is independently owned and operated, is not dominant in its field of operation (including its affiliates), and its combined annual receipts are not in excess of $19.0 million (NAICS code 114111, finfish fishing) for all of its affiliated operations worldwide. For for-hire vessels, all qualifiers apply except that the annual receipts threshold is $7.0 million (NAICS code 487210, recreational industries). The SBA periodically reviews and changes, as appropriate, these size criteria. On June 20, 2013, the SBA issued a final rule revising the small business size standards for several industries, effective July 22, 2013 (78 FR 37398). That rule increased the size standard for commercial finfish harvesters from $4.0 million to $19.0 million. Neither that rule, nor other recent SBA rules, changed the size standard for for-hire vessels.

From 2008-2012, an annual average of 223 vessels with valid Federal permits to operate in the commercial sector of the snapper-grouper fishery landed at least 1 lb (0.5 kg) of black sea bass. These vessels generated annual average dockside revenues of approximately $3.6 million (2011) from all species caught on the same trips as black sea bass, of which $918,000 (2011 dollars) were from black sea bass. Each vessel, therefore, generated an annual average of approximately $16,000 in gross revenues, of which $4,000 annually were from black sea bass. For the same period, an annual average of 252 vessels with valid Federal permits to operate in the commercial sector of the snapper-grouper fishery landed at least 1 lb (0.5 kg) of gag. These vessels generated dockside revenues of approximately $5.7 million (2011) from all species caught on the same trips as gag, of which $1.7 million (2011 dollars) were from gag. Each vessel, therefore, generated an annual average of approximately $23,000 in gross revenues, of which $7,000 were from gag.

Additionally, an annual average of 304 vessels with valid Federal permits to operate in the commercial sector of the snapper-grouper fishery landed at least 1 lb (0.5 kg) of greater amberjack. These vessels generated dockside revenues of approximately $5.7 million (2011) from all species caught on the same trips as greater amberjack, of which $905,000 (2011 dollars) were from greater amberjack. Each vessel, therefore, generated an annual average of approximately $23,000 in gross revenues, of which $3,000 were from greater amberjack. Also, an annual average of 229 vessels with valid Federal permits to operate in the commercial sector of the snapper-grouper fishery landed at least l lb (0.5 kg) of vermilion snapper. These vessels generated dockside revenues of approximately $6.2 million (2011) from all species caught on the same trips as vermilion snapper, of which $2.9 million (2011 dollars) were from vermilion snapper. Each vessel, therefore, generated an annual average of approximately $27,000 in gross revenues, of which $13,000 were from vermilion snapper. Some vessels may have caught and landed any combination of these four species (black sea bass, gag, greater amberjack, and vermilion snapper) and revenues therefrom are included in the foregoing estimates. Vessels that caught and landed any of these four species may also operate in other fisheries, the revenues of which are not reflected in these totals. Based on revenue information, all commercial vessels affected by this rule can be considered small entities.

From 2008-2012, an annual average of 1,809 vessels had valid or renewable Federal permits to operate in the for-hire component of the recreational sector of the South Atlantic snapper-grouper fishery. As of July 24, 2013, 1,523 vessels held South Atlantic charter/headboat snapper-grouper permits and about 75 of those vessels are estimated to have operated as headboats in 2013. The for-hire fleet consists of charter boats, which charge a fee on a vessel basis, and headboats, which charge a fee on an individual angler (head) basis. Average annual revenues (2011 dollars) for charter boats are estimated to be $126,032 for Florida vessels, $53,443 for Georgia vessels, $100,823 for South Carolina vessels, and $101,959 for North Carolina vessels. For headboats, the corresponding estimates are $209,507 for Florida vessels and $153,848 for vessels in the other states. Revenue figures for states other than Florida are aggregated to avoid disclosure of confidential information. Based on these average revenue figures, all for-hire operations that would be affected by this rule can be considered small entities.

Because all entities expected to be affected by this proposed rule are small entities, NMFS has determined that this proposed rule would affect a substantial number of small entities. Moreover, the issue of disproportionate effects on small versus large entities does not arise in the present case.

Relative to the no action alternative, the proposed modification to the greater amberjack commercial season is not expected to alter the length of the commercial season. NMFS projections show that if closures were to occur, they would be of about the same length for both the no action alternative and the preferred alternative. For this reason, it is unlikely that total ex-vessel revenues for the commercial sector would change. However, there is a possibility that the distribution of those revenues would change in favor of those with first access to the fishery resource, particularly if fishing closures were to occur. NMFS projections for the recreational sector show that the recreational ACL would be met at a later date under the no action alternative than under the preferred alternative. Thus, greater recreational ACL overages may be expected from the preferred alternative as there is no in-season AM for the greater amberjack recreational sector. This would result in higher profits to for-hire vessels in a current fishing year. However, the post-season AM requires that the following year's fishing season would be shortened if the recreational ACL was exceeded during the previous fishing year, resulting in revenue and profit reductions to for-hire vessels. Based on average angler trips for 2008-2012, the for-hire fleet would lose about $161,000 (2011 dollars) in annual profits, of which $160,000 (2011 dollars) would be for headboats and $1,000 (2001 dollars) for charter boats as a result of a shortened season. It cannot be ascertained if a fishing year's increased profits that would be partly due to quota overages would more than compensate for the following year's profit reductions due to fewer trips taken because of a shortened fishing season.

The economic effects of the proposed modification to the recreational fishing year for black sea bass are uncertain. Projection models used to predict the length of the season provide relatively wide variations. Consequently, the expected effects on for-hire vessel profits would also vary widely. Based on 2008-2012 trip data, the proposed change in the recreational black sea bass fishing year is expected to change for-hire profits anywhere from negative $636,000 to positive $167,000 (2011 dollars), depending on the model used to project the season length.

Setting the end date for the black sea bass recreational fishing season at the beginning of each fishing year would in effect set a fixed recreational fishing season for that year. Relative to the no action alternative, this alternative is likely to provide an improved economic environment for increased short-term profits for for-hire vessels, because for-hire vessel owners/operators could develop better plans (e.g., booking schedules) to take advantage of improved fishing opportunities. One downside of this proposed action is that it tends to increase the likelihood of ACL overages because no fishing closure would be implemented during the fixed season. It cannot be determined at this time if a year's increased profits partly due to quota overages would more than compensate for the following year's profit reductions due to fewer trips taken because of a shortened fishing season.

Changing the commercial fishing year for black sea bass to start on January 1 would effectively mean that the hook-and-line component of the commercial sector would have first access to the black sea bass resource, because sea bass pots are prohibited from November 1 through April 30. In addition, the trip limit for the hook-and-line component of the commercial sector from January 1 through April 30 would be 300 lb (136 kg), gutted weight; in other months when commercial harvest of black sea bass is allowed, the trip limit for both the pot and hook-and-line components is maintained at 1,000 lb (454 kg), gutted weight. While the change in the commercial fishing year would benefit the hook-and-line component in that they could start fishing at the beginning of the fishing year, the lower trip limit would increase the cost per fish harvested for that gear type. It cannot be determined at this time whether this condition would increase the profits of hook-and-line vessels. Projections on the length of the commercial black sea bass fishing season show that, in general, fishery closures under the proposed fishing year change would happen earlier in the year than under the no action alternative. There is then a possibility that vessel revenues would be lower under the proposed fishing year change, and it is likely that the pot component of the commercial sector would bear a greater portion of the revenue loss because of a shorter fishing season than the hook-and-line component. The magnitude of such a loss cannot be estimated beyond stating that the revenues under the proposed action would be lower relative to that of the no action alternative.

Reducing the commercial trip limit for gag from 1,000 lb (454 kg), gutted weight, to 500 lb (227 kg), gutted weight, when 75 percent of the commercial ACL is projected to be met would extend the length of the commercial fishing season by about 1 week. It is not known if this lengthened season would be sufficient for the ex-vessel price for gag to increase. In the absence of an increased ex-vessel price, commercial revenues are unlikely to increase. Under this condition, there arises the possibility that profits per trip could decrease because the fishing cost per fish landed for those already catching above 500 lb (227 kg), gutted weight, would be higher. However, maintaining the trip limit at 1,000 lb (454 kg), gutted weight, could eventually lead to a progressive shortening of the commercial season over the years as fishermen race to harvest fish before the season closes. The reduced trip limit would likely favor those catching 300 lb (136 kg), gutted weight, or less, on commercial trips as they would be able to continue their usual fishing activities at relatively the same cost and profit per trip.

Modifying the recreational AM for vermilion snapper would require recreational ACL paybacks only if, in addition to the stock being overfished as in the no action alternative, the aggregate vermilion snapper commercial and recreational ACLs are exceeded. NMFS notes that the revised AM would also provide for in-season closures as in the no action alternative. Because vermilion snapper is currently neither overfished nor undergoing overfishing, the proposed revision to the recreational AM would have no short-term economic effects.

The following discussion analyzes the alternatives that were not selected as preferred by the Council, or alternatives for which the Council chose the no action alternative.

Three alternatives, including the preferred alternative, were considered for modifying the commercial and recreational fishing years for greater amberjack. The first alternative, the no action alternative, would maintain the May 1 through April 30 commercial and recreational fishing year. The second alternative would establish a January 1 through December 31 commercial and recreational fishing year for greater amberjack. The second alternative (January 1-December 31) would allow fishermen in South Florida to harvest greater amberjack in March through May before the fish migrate north in late spring. In effect, the first alternative (May 1-April 30) would allow South Florida fishermen to have access to the fish in only 2 months each year; whereas, fishermen in North Florida through North Carolina would have access to the fish for a much longer annual period. Thus, the Council rejected these two alternatives because the preferred alternative would allow fishermen across the South Atlantic states more equitable access to the fishery resource.

Five alternatives, including the preferred alternative, were considered for modifying the recreational fishing year for black sea bass. The first alternative, the no action alternative, would maintain the June 1 through May 31 recreational fishing year. The second alternative would establish a January 1 through December 31 fishing year; the third alternative, an October 1 through September 30 fishing year; and, the fourth alternative, a May 1 through April 30 fishing year. NMFS employed several models to project the season length for the various alternatives. Projected season lengths vary widely within and across the alternative fishing years and projection models. An attempt was made to estimate for-hire profits based on projected season lengths for the various fishing year alternatives. For some models, the preferred alternative would result in higher for-hire vessel profits than any other alternatives, but for other projection models, some alternatives (e.g., no action alternative) would result in higher for-hire profits than the preferred alternative. In essence, profit estimates were quite uncertain. The Council rejected all of the other fishing year alternatives because they considered them inferior to the preferred alternative in reducing regulatory discards of black sea bass. The preferred recreational fishing year of April through March would reduce the amount of regulatory discards by coinciding the open seasons for species that are commonly caught together, such as black sea bass and vermilion snapper.

Four alternatives, including the preferred alternative, were considered for modifying the recreational AM for black sea bass. The first alternative, the no action alternative, would prohibit the harvest and retention of black sea bass if the recreational ACL is met or is projected to be met independent of the stock status, and would reduce the recreational ACL in the following fishing year by the amount of the recreational ACL overage in the prior year. The second alternative would require NMFS to annually announce the recreational fishing season end date, with the season starting on April 1 and the end date being determined by NMFS' projection of when the recreational annual catch target (ACT) would be met. The third alternative is the same as the first alternative but without the payback provision in the event of a recreational ACL overage. Comparative economic analysis of the various alternatives cannot be determined as a result of the interplay of such factors as an in-season AM that affects overages, paybacks in case of overages, and a better business planning environment (e.g., booking trips that would not be cancelled due to a quota closure) in a given year. The first alternative would provide a business planning environment that would not be as conducive to generating higher for-hire vessel profit as the preferred alternative, but would appear to have a better chance of limiting recreational ACL overages and thus avoid a shortening of the following year's fishing season that would have adverse effects on for-hire vessel profits. The second alternative would likely result in lower for-hire profits than the preferred alternative, because using the recreational ACT for determining the end date of the black sea bass recreational fishing season would result in a shorter fishing season in any given year. The third alternative would likely result in lower for-hire vessel profits than the preferred alternative in a given year, but in the event of overages, it would likely provide higher for-hire vessel profits in the following year because it would not require any payback for recreational ACL overages. The Council selected its preferred alternative because it would tend to provide more stability to the recreational sector and/or higher for-hire vessel profits than the other alternatives.

Four alternatives, including the preferred alternative, were considered for modifying the commercial fishing year for black sea bass. The first alternative, the no action alternative, would maintain the June 1 through May 31 fishing year, with pots prohibited from November 1 through April 30, and a 1,000 lb (454 kg), gutted weight, trip limit for both the pot and hook-and-line components. The second alternative would differ from the no action alternative by establishing a July 1 through June 30 commercial fishing year. The third alternative would differ from the no action alternative by setting a May 1 through April 30 fishing year. In addition, three sub-alternatives, including the preferred sub-alternative, were considered for a commercial trip limit for the hook-and-line component from January 1 through April 30 coinciding during a time that sea bass pots are prohibited from harvesting black sea bass. The first sub-alternative would impose a 100 lb (45 kg), gutted weight, hook-and-line trip limit and the second sub-alternative, a 200 lb (90 kg), gutted weight, hook-and-line trip limit. These two sub-alternatives would tend to increase the cost per landed fish more than the preferred sub-alternative. The Council rejected all the other fishing year alternatives because they were inferior to the preferred alternative in minimizing regulatory discards of black sea bass. The preferred alternative would minimize the amount of regulatory discards by allowing the harvest of black sea bass at the same time as that of co-occurring snapper-grouper species.

Two alternatives, including the preferred alternative, and five sub-alternatives, including the preferred sub-alternative, were considered for modifying the commercial trip limit for gag. The only other alternative, the no action alternative, would retain the 1,000 lb (454 kg), gutted weight, trip limit for gag throughout the fishing year. The other trip limits considered to be enacted when 75 percent of the gag commercial ACL is landed were the following: 100 lb (45 kg), gutted weight; 200 lb (90 kg), gutted weight; 300 lb (136 kg), gutted weight; and 400 lb (180 kg), gutted weight. Cost per landed fish would be lower under the no action alternative than under the preferred alternative, potentially resulting in higher vessel profit per trip. The Council rejected this alternative because it would lead to a shorter fishing season for gag and thus presents a higher potential to increase discards of gag when vessels fish for co-occurring snapper-grouper species. The other trip limits are lower than the preferred alternative so they would tend to increase the cost per landed fish and might lower vessel profit per trip.

Four alternatives, including the preferred alternative, were considered for modifying the recreational AM for vermilion snapper. The first alternative, the no action alternative, would prohibit the recreational harvest of vermilion snapper after recreational landings reach or are projected to reach the recreational ACL and vermilion snapper are overfished. In addition, this alternative would require a payback equal to the amount of the recreational ACL overage if recreational landings exceed the ACL, regardless of the status of the stock. The second alternative differs from the no action alternative only by not considering the status of the stock when imposing the in-season AM. The third alternative differs from the no action alternative by not considering stock status when imposing the in-season AM and removing the payback provision. Because vermilion snapper is no longer overfished, the various alternatives would have the same in-season economic effects. In the event of a recreational ACL overage, relative to the preferred alternative, the first and second alternatives would likely result in profit reductions because paybacks have to be made regardless of stock status; whereas, the third alternative would likely result in less adverse economic effects as it would not require any paybacks. While the recreational sector would be economically better off under the third alternative, the Council rejected this alternative because paybacks are deemed necessary to prevent overfishing of the vermilion stock.

The Council also considered three alternatives to modify the commercial fishing season for vermilion snapper, of which they chose the no action alternative. The no action alternative would maintain the split of the commercial fishing year, with January through June as the first season and July through December as the second season. The commercial ACL is currently split equally between the two seasons. The second alternative, with three sub-alternatives, would retain the split of the fishing year, with 100 percent of the new ACL implemented through Regulatory Amendment 18 to the FMP applied to the second season (78 FR 47574, August 6, 2013). The three sub-alternatives would change the start date of the second season to either July 1, June 1, or May 1. The third alternative, with three sub-alternatives, would retain the split of the fishing year, with 25 percent of the new ACL (Regulatory Amendment 18) applied to the first season and 75 percent to the second season. The three sub-alternatives would change the start date of the second season to either July 1, June 1, or May 1. The Council chose the no action alternative as their preferred alternative because they considered it as the best choice among the fishing year alternatives to minimize regulatory discards of vermilion snapper by those that fish for co-occurring snapper-grouper species.

An item contained in this proposed rule that is not part of Regulatory Amendment 14 is the removal of the requirement that all other SASWG are prohibited from harvest when the gag commercial ACL is met or projected to be met. This action was inadvertently left out of the final rule implementing Regulatory Amendment 15 to the FMP (78 FR 49183, August 13, 2013). The economic consequences of this action were previously analyzed in Regulatory Amendment 15.

List of Subjects in 50 CFR Part 622

Black sea bass, Fisheries, Fishing, Gag, Greater amberjack, South Atlantic, Snapper-Grouper, Vermilion snapper.

Dated: April 21, 2014.
Samuel D. Rauch III,
Deputy Assistant Administrator for Regulatory Programs, National Marine Fisheries Service.

For the reasons set out in the preamble, 50 CFR part 622 is proposed to be amended as follows:

PART 622—FISHERIES OF THE CARIBBEAN, GULF OF MEXICO, AND SOUTH ATLANTIC

1. The authority citation for part 622 continues to read as follows:

Authority: 16 U.S.C. 1801 et seq.

2. In § 622.7, paragraphs (d) and (e) are revised to read as follows:

§ 622.7 Fishing years.

* * * * *

(d) South Atlantic greater amberjack—March 1 through the end of February.

(e) South Atlantic black sea bass recreational sector—April 1 through March 31. (Note: The fishing year for the commercial sector for black sea bass is January 1 through December 31).

3. In § 622.190, paragraph (c)(1)(iii) is removed and paragraph (a)(5) is revised to read as follows:

§ 622.190 Quotas.

* * * * *

(a) * * *

(5) Black sea bass (i) For the 2014, 2015, and 2016 fishing years—661,034 lb (299,840 kg), gutted weight; 780,020 lb (353,811 kg), round weight.

(ii) For the 2017 fishing year and subsequent fishing years—640,063 lb (290,328 kg), gutted weight; 755,274 lb (342,587 kg), round weight.

* * * * *

4. In § 622.191, paragraphs (a)(7) and (a)(8) are revised to read as follows:

§ 622.191 Commercial trip limits.

* * * * *

(a) * * *

(7) Gag. (i) Until 75 percent of the quota specified in § 622.190(a)(7) is reached—1,000 lb (454 kg), gutted weight, 1,180 lb (535 kg), round weight.

(ii) After 75 percent of the quota specified in § 622.190(a)(7) is reached or projected to be reached—500 lb (227 kg), gutted weight, 590 lb (268 kg), round weight. When the conditions in this paragraph (a)(7)(ii) have been met, the Assistant Administrator will implement this trip limit change by filing a notification with the Office of the Federal Register.

(iii) See § 622.190(c)(1) for the limitations regarding gag after the quota is reached.

(8) Black sea bass. (i) Hook-and-line component. (A) From January 1 through April 30, until the applicable quota specified in § 622.190(a)(5) is reached—300 lb (136 kg), gutted weight; 354 lb (161 kg), round weight.

(B) From May 1 through December 31, until the applicable quota specified in § 622.190(a)(5) is reached—1,000 lb (454 kg), gutted weight; 1,180 lb (535 kg), round weight.

(ii) Sea bass pot component. From May 1 through October 31, until the applicable quota specified in § 622.190(a)(5) is reached—1,000 lb (454 kg), gutted weight; 1,180 lb (535 kg), round weight. See § 622.183(b)(6) regarding the November 1 through April 30 seasonal closure of the commercial black sea bass pot component of the snapper-grouper fishery.

(iii) See § 622.190(c)(1) for the limitations regarding black sea bass after the applicable quota is reached.

* * * * *

5. In § 622.193, paragraphs (e)(2) and (f)(2)(i) and (ii) are revised to read as follows:

§ 622.193 Annual catch limits (ACLs), annual catch targets (ACTs), and accountability measures (AMs).

* * * * *

(e) * * *

(2) Recreational sector. The recreational ACL for black sea bass is 876,254 lb (397,462 kg), gutted weight, 1,033,980 lb (469,005 kg), round weight for the 2013-2014, 2014-2015, and 2015-2016 fishing years and 848,455 lb (384,853 kg), gutted weight, 1,001,177 lb (454,126 kg), round weight for the 2016-2017 fishing year and subsequent fishing years. NMFS will project the length of the recreational fishing season based on when NMFS projects the recreational ACL specified in this paragraph is expected to be met and announce the recreational fishing season end date in the Federal Register prior to the start of the recreational fishing year on April 1. On and after the effective date of the recreational closure notification, the bag and possession limit for black sea bass in or from the South Atlantic EEZ is zero. This bag and possession limit applies in the South Atlantic on board a vessel for which a valid Federal charter vessel/headboat permit for South Atlantic snapper-grouper has been issued, without regard to where such species were harvested, i.e., in state or Federal waters.

* * * * *

(f) * * *

(2) Recreational sector. (i) If recreational landings, as estimated by the SRD, reach or are projected to reach the applicable recreational ACL specified in paragraph (f)(2)(iv) of this section the AA will file a notification with the Office of the Federal Register to close the recreational sector for vermilion snapper for the remainder of the fishing year. On and after the effective date of such notification, the bag and possession limit for vermilion snapper in or from the South Atlantic EEZ is zero. This bag and possession limit also applies in the South Atlantic on board a vessel for which a valid Federal commercial or charter vessel/headboat permit for South Atlantic snapper-grouper has been issued, without regard to where such species were harvested, i.e., in state or Federal waters.

(ii) If the combined vermilion snapper commercial and recreational landings exceed the combined vermilion snapper ACLs specified in paragraphs (f)(1) and (f)(2)(iv) of this section, and vermilion snapper are overfished, based on the most recent Status of U.S. Fisheries Report to Congress, the AA will file a notification with the Office of the Federal Register, at or near the beginning of the following fishing year to reduce the recreational ACL for that following year by the amount of the recreational overage in the prior fishing year.

* * * * *

[FR Doc. 2014-09356 Filed 4-24-14; 8:45 am]

BILLING CODE 3510-22-P